POSTAL REGULATORY COMMISSION

[Docket No. CP2021-28; Order No. 5754]

Competitive Price Adjustment

AGENCY: Postal Regulatory Commission.

ACTION: Notice.

SUMMARY: The Commission is recognizing a recently filed Postal Service document with the Commission concerning changes in rates of general applicability for competitive international products. The changes are scheduled to take effect January 24, 2021. This notice informs the public of the filing, invites public comment, and takes other administrative steps.

DATES: Comments are due: December 2, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On November 16, 2020, the Postal Service filed notice with the Commission concerning changes in rates of general applicability for competitive products.¹ The Postal Service represents that, as required by 39 CFR 3035.102(b), the Notice includes an explanation and justification for the changes, the effective date, and a schedule of the changed rates. See Notice at 1. The changes are scheduled to take effect on January 24, 2021. Id.

¹ USPS Notice of Changes in Rates of General Applicability for Competitive Products, November 16, 2020 (Notice). Pursuant to 39 U.S.C. 3632(b)(2), the Postal Service is obligated to publish the Governors' Decision and record of proceedings in the Federal Register at least 30 days before the effective date of the new rates.

Attached to the Notice is Governors' Decision No. 20-5, which states the new prices are in accordance with 39 U.S.C. 3632 and 3633 and 39 CFR 3035.102.² The Governors' Decision provides an analysis of the competitive products' price changes intended to demonstrate that the changes comply with 39 U.S.C. 3633 and 39 CFR part 3035. Governors' Decision No. 20-5 at 1. The attachment to the Governors' Decision sets forth the price changes and includes draft Mail Classification Schedule language for competitive products of general applicability.

² Notice, Decision of the Governors of the United States Postal Service on Changes in Rates of General Applicability for Competitive Products (Governors' Decision No. 20-5), at 1 (Governors' Decision No. 20-5).

³ The upper end of this range corresponds to the proposed change in prices for certain Developer's Kits. A breakdown of the proposed prices for Address Enhancement Services by rate cell is shown in the Notice, Attachment to Governor's Decision 20-5, § 2605.

The Governors' Decision includes two additional attachments:

• A partially redacted table showing FY 2021 projected volumes, revenues, attributable costs, contribution, and cost coverage for each product, assuming implementation of the new prices on January 24, 2021.

• A partially redacted table showing FY 2021 projected volumes, revenues, attributable costs, contribution, and cost coverage for each product, assuming a hypothetical implementation of the new prices on October 1, 2020.

The Notice also includes an application for non-public treatment of the attributable costs, contribution, and cost coverage data in the unredacted version of the annex to the Governors' Decision, as well as the supporting materials for the data. Notice at 1-2.

Planned price adjustments. The Governors' Decision includes an overview of the Postal Service's planned price changes, which is summarized in the table below.

Table I-1 Proposed Price Changes
Product name | Average price increase (percent)
Domestic Competitive Products
Priority Mail Express | 1.2
Retail | 1.0
Commercial Base | 2.5
Commercial Plus | 2.5
Priority Mail | 3.5
Retail | 3.0
Commercial Base | 3.6
Commercial Plus | 4.5
Parcel Select | 8.9
Destination Delivery Unit | 4.9
Destination Sectional Center Facility | 10.7
Destination Network Distribution Center | 9.7
Lightweight | 20.0
Parcel Return Service | 4.9
Return Sectional Center Facility | 4.9
Return Delivery Unit | 4.9
First-Class Package Service | 6.2
Retail | 4.8
Commercial | 6.5
Retail Ground | 3.0
Domestic Extra Services
Premium Forwarding Service Enrollment Fee | 3.9-4.0
Adult Signature Service |
Basic | 3.8
Person-Specific | 3.6
Address Enhancement Services | ³ 3.7-100.0
Competitive Post Office Box | 23.3
Package Intercept Service | 4.1
Source: See Governors' Decision No. 20-5 at 2-4 (showing percentage increases for products other than Adult Signature Service and Address Enhancement Services and new prices for Adult Signature Service and Address Enhancement Services); Mail Classification Schedule section 2645.1.2 (showing existing prices for Adult Signature Service); Mail Classification Schedule section 2605.2 (showing existing prices for Address Enhancement Services).

II. Initial Administrative Actions

The Commission establishes Docket No. CP2021-28 to consider the Postal Service's Notice. Interested persons may express views and offer comments on whether the planned changes are consistent with 39 U.S.C. 3632, 3633, and 3642, 39 CFR part 3035, and 39 CFR 3040 subparts B and E. Comments are due no later than December 2, 2020. For specific details of the planned price changes, interested persons are encouraged to review the Notice, which is available on the Commission's website at www.prc.gov.

Pursuant to 39 U.S.C. 505, Christopher C. Mohr is appointed to serve as Public Representative to represent the interests of the general public in this docket.

III. Ordering Paragraphs

It is ordered:

1. The Commission establishes Docket No. CP2021-28 to provide interested persons an opportunity to express views and offer comments on whether the planned changes are consistent with 39 U.S.C. 3632, 3633, and 3642, 39 CFR part 3035, and 39 CFR 3040 subparts B and E.

2. Comments are due no later than December 2, 2020.

3. Pursuant to 39 U.S.C. 505, the Commission appoints Christopher C. Mohr to serve as an officer of the Commission (Public Representative) to represent the interests of the general public in this docket.

4. The Secretary shall arrange for publication of this Order in the Federal Register.

By the Commission.
Erica A. Barker,
Secretary.

[FR Doc. 2020-25753 Filed 11-20-20; 8:45 am]

BILLING CODE 7710-FW-P